COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and a service to the Procurement List that will be furnished by nonprofit agencies employing persons who are blind or have other severe disabilities.

DATES: Effective Date: 9/9/2013.

ADDRESSES: Committee for Purchase From People Who Are Blind or Severely Disabled, 1401 S. Clark Street, Suite 10800, Arlington, Virginia 22202-4149.

FOR FURTHER INFORMATION CONTACT: Patricia Briscoe, Telephone: (703) 603-7740, Fax: (703) 603-0655, or email CMTEFedReg@AbilityOne.gov.

SUPPLEMENTARY INFORMATION:

Additions

On 6/14/2013 (78 FR 35874-35875) and 6/21/2013 (78 FR 37524-37525), the Committee for Purchase From People Who Are Blind or Severely Disabled published notices of proposed additions to the Procurement List.

After consideration of the material presented to it concerning capability of qualified nonprofit agencies to provide the products and service and impact of the additions on the current or most recent contractors, the Committee has determined that the products and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 8501-8506) in connection with the products and service proposed for addition to the Procurement List.

End of Certification

Accordingly, the following products and service are added to the Procurement List:

Products

NSN: 7110-00-NIB-0077—Work/Plan Kit, Magnetic, 3′ x 2′

NSN: 7110-00-NIB-0078—Work/Plan Kit, Magnetic, 4′ x 3′

NSN: 7110-00-NIB-0079—Work/Plan Kit, Magnetic, 6′ x 4′

NSN: 7110-00-NIB-0081—White Board, Subtle Grid, 3′ x 2′

NSN: 7110-00-NIB-0082—White Board, Subtle Grid, 4′ x 3′

NSN: 7110-00-NIB-0083—White Board, Subtle Grid, 2′ x 1.5′

NSN: 7110-00-NIB-0084—White Board, Subtle Grid, 3′ x 2′

NSN: 7110-00-NIB-0085—White Board, Subtle Grid, 4′ x 3′

NSN: 7110-00-NIB-0086—White Board, Subtle Grid, 6′ x 4′

NSN: 7110-00-NIB-0087—White Board, Cubicle, Aluminum, 14″ x 11″

NSN: 7110-00-NIB-2200—Calendar, Four-Month, Aluminum, 4′ x 3′

NSN: 7195-00-NIB-0040—Bulletin Board, Cubicle Cork, Aluminum, 24″ x 14″

NPA: The Lighthouse for the Blind, Inc. (Seattle Lighthouse), Seattle, WA

Contracting Activity: General Services Administration, Arlington, VA

COVERAGE: A-List for the Total Government Requirement as aggregated by the General Services Administration.

NSN: 7530-00-NIB-1077—File Jackets, Letter, Manila, Straight Tab Cut

NSN: 7530-00-NIB-1078—File Jackets, Letter, Manila, Straight Tab Cut, 1″ Expansion

NSN: 7530-00-NIB-1079—File Jackets, Letter, Manila, Straight Tab Cut, 1.5″ Expansion

NSN: 7530-00-NIB-1080—File Jackets, Letter, Manila, Straight Tab Cut, 2″ Expansion

NSN: 7530-00-NIB-1081—File Jackets, Legal, Manila, Straight Tab Cut

NSN: 7530-00-NIB-1082—File Jackets, Legal, Manila, Straight Tab Cut, 1″ Expansion

NSN: 7530-00-NIB-1083—File Jackets, Legal, Manila, Straight Tab Cut, 1.5″ Expansion

NSN: 7530-00-NIB-1084—File Jackets, Legal, Manila, Straight Tab Cut, 2″ Expansion

NPA: Association for Vision Rehabilitation and Employment, Inc., Binghamton, NY

Contracting Activity: General Services Administration, New York, NY

COVERAGE: A-List for the Total Government Requirement as aggregated by the General Services Administration.

NSN: 7530-01-364-9489—Tabs, Multicolor, Numerical, 1-5

NSN: 7530-00-NIB-1120—Tabs, Multicolor, Numerical, 1-12

NSN: 7530-01-407-2250—Tabs, Legal, Clear, Numerical, 1-25

NSN: 7530-01-407-2248—Tabs, Legal, Clear, Numerical, 26-50

NPA: South Texas Lighthouse for the Blind, Corpus Christi, TX

Contracting Activity: General Services Administration, New York, NY

COVERAGE: A-List for the Total Government Requirement as aggregated by the General Services Administration.

NSN: MR 10629—Scrub Stone, Grill Cleaner

NSN: MR 10626—Poster Book, Coloring, Assorted, 36 x 42

NSN: MR 10609—Bowl, Insulated Thermal, Toddler, 8oz

NPA: Winston-Salem Industries for the Blind, Inc., Winston-Salem, NC

Contracting Activity: Defense Commissary Agency, Fort Lee, VA

COVERAGE: C-List for the requirements of military commissaries and exchanges as aggregated by the Defense Commissary Agency.

NSN: 7530-01-372-3102—Folder, File, Hanging, Letter Size, 1 Divider, 4 Sections, Light Blue

NSN: 7530-00-NIB-1098—Folder, File, Hanging, Light Blue, Letter Size, 2-Dividers, 6 Sections

NSN: 7530-00-NIB-1099—Folder, File, Hanging, Light Blue, Legal Size, 1-Divider, 4 Sections

NSN: 7530-00-NIB-1100—Folder, File, Hanging, Light Blue, Legal Size, 2-Dividers, 6 Sections

NPA: Clovernook Center for the Blind and Visually Impaired, Cincinnati, OH

Contracting Activity: General Services Administration, New York, NY

COVERAGE: A-List for the Total Government Requirement as aggregated by the General Services Administration.

Service

Service Type/Location: Janitorial/Custodial Service, Defense Contract Management Agency (DCMA) Office, 366 Avenue D, Building 7216, Dyess AFB, TX.

NPA: Training, Rehabilitation, & Development Institute, Inc., San Antonio, TX

Contracting Activity: Defense Contract Management Agency, Defense Contract Managment Office, Fort Lee, VA

Patricia Briscoe,
Deputy Director, Business Operations (Pricing and Information Management).

[FR Doc. 2013-19298 Filed 8-8-13; 8:45 am]

BILLING CODE 6353-01-P